DEPARTMENT OF TRANSPORTATION

Federal Aviation Administration

14 CFR Part 39

[Docket No. FAA-2021-0842; Project Identifier 2019-CE-032-AD; Amendment 39-21871; AD 2021-26-12]

RIN 2120-AA64

Airworthiness Directives; Stemme AG Gliders

AGENCY: Federal Aviation Administration (FAA), DOT.

ACTION: Final rule.

SUMMARY: The FAA is adopting a new airworthiness directive (AD) for certain Stemme AG Model Stemme S 12 gliders. This AD was prompted by mandatory continuing airworthiness information (MCAI) issued by the aviation authority of another country to identify and correct an unsafe condition on an aviation product. The MCAI describes the unsafe condition as the incorrect installation of an axle connecting the main landing gear (MLG) to the center steel frame. This AD requires inspecting the MLG installation and repairing if necessary. The FAA is issuing this AD to address the unsafe condition on these products.

DATES: This AD is effective February 24, 2022.

The Director of the Federal Register approved the incorporation by reference of a certain publication listed in this AD as of February 24, 2022.

ADDRESSES: For service information identified in this final rule, contact STEMME AG, Flugplatzstrasse F2, Nr. 6-7, D-15344 Strausberg, Germany; phone: +49 (0) 3341 3612-0; fax: +49 (0) 3341 3612-30; email: airworthiness@stemme.de; website: https://www.stemme.com. You may view this service information at the FAA, Airworthiness Products Section, Operational Safety Branch, 901 Locust, Kansas City, MO 64106. For information on the availability of this material at the FAA, call (817) 222-5110. It is also available at https://www.regulations.gov by searching for and locating Docket No. FAA-2021-0842.

Examining the AD Docket

You may examine the AD docket at https://www.regulations.gov by searching for and locating Docket No. FAA-2021-0842; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Jim Rutherford, Aviation Safety Engineer, General Aviation & Rotorcraft Section, International Validation Branch, FAA, 901 Locust, Room 301, Kansas City, MO 64106; phone: (816) 329-4165; fax: (816) 329-4090; email: jim.rutherford@faa.gov.

SUPPLEMENTARY INFORMATION:

Background

The FAA issued a notice of proposed rulemaking (NPRM) to amend 14 CFR part 39 by adding an AD that would apply to certain serial-numbered Stemme AG Model Stemme S 12 gliders. The NPRM published in the Federal Register on October 8, 2021 (86 FR 56225). The NPRM was prompted by MCAI originated by the European Union Aviation Safety Agency (EASA), which is the Technical Agent for the Member States of the European Union. EASA issued AD 2019-0130-E, dated June 7, 2019 (referred to after this as “the MCAI”), to address an unsafe condition on Stemme AG Model Stemme S 12 gliders. The MCAI states:

Following a production acceptance flight, the pilot noticed that the aeroplane was in a banked position on the ground. Further examination determined that an axle, connecting the main landing gear (MLG) leg to the centre steel frame of the aeroplane, had been installed incorrectly. Other S12 aeroplanes may also be affected by this installation error.

This condition, if not detected and corrected, could lead to damage to the aeroplane, possibly resulting in injury to occupants.

To address this unsafe condition, Stemme issued the SB [service bulletin] to provide inspection instructions.

For the reason described above, this [EASA] AD requires a one-time inspection of the MLG installation and, depending on findings, the accomplishment of applicable corrective action(s).

You may examine the MCAI in the AD docket at https://www.regulations.gov by searching for and locating Docket No. FAA-2021-0842.

Discussion of Final Airworthiness Directive

Comments

The FAA received no comments on the NPRM or on the determination of the costs.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. This AD is adopted as proposed in the NPRM.

Related Service Information Under 1 CFR Part 51

The FAA reviewed Stemme Service Bulletin No. P062-980037, Revision 00, dated June 5, 2019 (SB P062-980037). The service information specifies inspecting and repairing, if necessary, the MLG leg connection to the center steel frame. This service information is reasonably available because the interested parties have access to it through their normal course of business or by the means identified in ADDRESSES.

Differences Between This AD and the Service Information

SB P062-980037 allows the pilot/owner to perform the initial inspection for correct installation, and this AD does not. SB P062-980037 specifies contacting Stemme AG for certain repair instructions, while this AD requires repair using a method approved by the FAA or EASA.

Costs of Compliance

The FAA estimates that this AD affects 11 gliders of U.S. registry. The FAA estimates that it would take 0.5 work hour per glider to inspect the MLG installation. The average labor rate is $85 per work hour. Based on these figures, the FAA estimates the cost to inspect the MLG installation on U.S. operators to be $467.50 or $42.50 per glider.

In addition, the FAA estimates that further inspection for damage of an improperly installed MLG would take about 4 work-hours costing $340 per glider. If any damage is found during this MLG inspection, it may vary considerably from glider to glider, and the FAA has no way of estimating a repair cost.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government. For the reasons discussed above, I certify that this AD. For the reasons discussed above, I certify this AD.

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-26-12 Stemme AG: Amendment 39-21871; Docket No. FAA-2021-0842; Project Identifier 2019-CE-032-AD.

(a) Effective Date

This airworthiness directive (AD) is effective February 24, 2022.

(b) Affected ADs

None.

(c) Applicability

This AD applies to Stemme AG Model Stemme S 12 gliders, serial numbers 12-002 through 12-026, inclusive, certificated in any category.

(d) Subject

Joint Aircraft System Component (JASC) Code 3200, Landing Gear System.

(e) Unsafe Condition

This AD was prompted by mandatory continuing airworthiness information (MCAI) issued by the aviation authority of another country to identify and correct an unsafe condition on an aviation product. The MCAI describes the unsafe condition as incorrect installation of an axle connecting the main landing gear (MLG) to the center steel frame of the glider. The FAA is issuing this AD to prevent failure of the MLG. The unsafe condition, if not addressed, could result in damage to the glider and possible injury to occupants.

(f) Compliance

Comply with this AD within the compliance times specified, unless already done.

(g) Required Actions

(1) Before further flight after the effective date of this AD, visually inspect the MLG left-hand and right-hand legs for proper installation as depicted in Figure 3 of Stemme Service Bulletin No. P062-980037, Revision 00, dated June 5, 2019 (SB P062-980037).

(2) If the MLG installation is not as depicted in Figure 3 of SB P062-980037, before further flight, inspect the MLG installation for damage in accordance with the Actions section, Action 2, in SB P062-980037, except you are not required to contact Stemme if there is damage. Instead, repair any damage using a method approved by the FAA or the European Union Aviation Safety Agency (EASA).

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD and email to: 9-AVS-AIR-730-AMOC@faa.gov.

(2) Before using any approved AMOC, notify your appropriate principal inspector, or lacking a principal inspector, the manager of the local flight standards district office/certificate holding district office.

(i) Related Information

(1) For more information about this AD, contact Jim Rutherford, Aviation Safety Engineer, General Aviation & Rotorcraft Section, International Validation Branch, FAA, 901 Locust, Room 301, Kansas City, MO 64106; phone: (816) 329-4165; fax: (816) 329-4090; email: jim.rutherford@faa.gov.

(2) Refer to EASA AD 2019-0130-E, dated June 7, 2019, for more information. You may examine the EASA AD in the AD docket at https://www.regulations.gov by searching for and locating Docket No. FAA-2021-0842.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Stemme Service Bulletin No. P062-980037, Revision 00, dated June 5, 2019.

Note 1 to paragraph (j)(2)(i): This service information has Feb-29 and July 14, 2017, in the footer of the document. Feb-29 refers to the form number and July 14, 2017, is the revision date of the form used to write the service information. For enforceability purposes, the FAA will cite the Stemme AG service information using the release date of June 5, 2019, that is located in the footer on the bottom of page 1 and used in EASA AD 2019-0130-E, dated June 7, 2019.

Note 2 to paragraph (j)(2)(i): This service information contains German to English translation. EASA used the English translation in referencing the document from Stemme AG. For enforceability purposes, the FAA will cite the Stemme AG service information in English as it appears on the document.

(ii) [Reserved]

(3) For service information identified in this AD, contact STEMME AG, Flugplatzstrasse F2, Nr. 6-7, D-15344 Strausberg, Germany; phone: +49 (0) 3341 3612-0; fax: +49 (0) 3341 3612-30; email: airworthiness@stemme.de; website: https://www.stemme.com.

(4) You may view this service information at FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on December 9, 2021.
Lance T. Gant,
Director, Compliance & Airworthiness Division, Aircraft Certification Service.

[FR Doc. 2022-00968 Filed 1-19-22; 8:45 am]

BILLING CODE 4910-13-P